DEPARTMENT OF HEALTH AND HUMAN SERVICES

Centers for Disease Control and Prevention

Solicitation of Nominations for Appointment to the World Trade Center Health Program Scientific/Technical Advisory Committee

AGENCY: Centers for Disease Control and Prevention (CDC), Department of Health and Human Services (HHS).

ACTION: Notice.

SUMMARY: The Centers for Disease Control and Prevention (CDC), within the Department of Health and Human Services (HHS), is seeking nominations for membership on the World Trade Center (WTC) Health Program Scientific/Technical Advisory Committee (STAC), in accordance with provisions of the James Zadroga 9/11 Health and Compensation Act of 2010, as amended. The STAC consists of 17 members including experts in fields associated with occupational medicine, pulmonary medicine, environmental medicine, environmental health, industrial hygiene, epidemiology, toxicology, and mental health, and representatives of WTC responders as well as representatives of certified-eligible WTC survivors.

DATES: Nominations for membership on the STAC must be received no later than November 11, 2024. Packages received after this time will not be considered for the current membership cycle.

ADDRESSES: All nominations should be mailed to NIOSH Docket 229-L, c/o Mia Wallace, Committee Management Specialist, National Institute for Occupational Safety and Health (NIOSH), Centers for Disease Control and Prevention, 1600 Clifton Road NE, Mailstop V24-4, Atlanta, Georgia 30329-4027, or emailed to nioshdocket@cdc.gov.

FOR FURTHER INFORMATION CONTACT: Tania Carreón-Valencia, Ph.D., M.S., Designated Federal Officer, World Trade Center Health Program Scientific/Technical Advisory Committee, Centers for Disease Control and Prevention, 1600 Clifton Road NE, Mailstop R-12, Atlanta, Georgia 30329-4027. Telephone: (513) 841-4515 (this is not a toll-free number); Email: TCarreonValencia@cdc.gov.

SUPPLEMENTARY INFORMATION: The World Trade Center (WTC) Health Program Scientific/Technical Advisory Committee (STAC) reviews scientific and medical evidence and makes recommendations to the Administrator of the WTC Health Program on additional Program eligibility criteria and, upon request, additional WTC-related health conditions, reviews and evaluates policies and procedures used to determine whether sufficient evidence exists to support adding a health condition to the List of WTC-Related Health Conditions (List), makes recommendations regarding individuals to conduct independent peer reviews of the scientific and technical evidence underlying a final rule adding a condition to the List, and provides consultation on research regarding certain health conditions related to the September 11, 2001, terrorist attacks.

Nominations are sought for individuals with the expertise and qualifications necessary to accomplish the Committee's objectives. The Administrator of the WTC Health Program is seeking nominations for members fulfilling the following categories:

• Two occupational physicians, one of whom should have experience treating WTC rescue and recovery workers;

• Environmental medicine/environmental health professional;

• Toxicologist;

• Epidemiologist;

• Representative of WTC responders; and

• Representative of certified-eligible WTC survivors.

Members may be invited to serve for four-year terms. Selection of members is based on candidates' qualifications to contribute to accomplishing STAC objectives. More information on the Committee is available at https://www.cdc.gov/wtc/stac.html.

Department of Health and Human Services (HHS) policy stipulates that committee membership be balanced in terms of points of view represented and the committee's function. Appointments shall be made without discrimination on the basis of age, race, ethnicity, gender, sexual orientation, gender identity, HIV status, disability, and cultural, religious, or socioeconomic status. Nominees must be U.S. citizens. Current participation on Federal workgroups or prior experience serving on a Federal advisory committee does not disqualify a candidate; however, HHS policy is to avoid excessive individual service on advisory committees and multiple committee memberships. Committee members are Special Government Employees, requiring the filing of financial disclosure reports at the beginning of and annually during their terms. NIOSH identifies potential candidates and provides a slate of nominees for consideration to the Director of the Centers for Disease Control and Prevention (CDC) for STAC membership each year; CDC reviews the proposed slate of candidates and provides a slate of nominees for consideration to the Secretary of HHS for final selection. HHS notifies selected candidates of their appointment near the start of the term in October, or as soon as the HHS selection process is completed. Note that the need for different expertise varies from year to year and a candidate who is not selected in one year may be reconsidered in a subsequent year.

Candidates should submit the following items:

• Current curriculum vitae, including complete contact information (telephone numbers, mailing address, email address);

• The category of membership (environmental medicine or environmental health specialist, occupational physician, pulmonary physician, representative of WTC responders, certified-eligible WTC survivor representative, industrial hygienist, toxicologist, epidemiologist, or mental health professional) that the candidate is qualified to represent;

• A summary of the background, experience, and qualifications that demonstrates the candidate's suitability for the nominated membership category along with an indication of whether the candidate is currently enrolled in the WTC Health Program; and

• At least one letter of recommendation from person(s) not employed by HHS. Candidates may submit letter(s) from current HHS employees if they wish, but at least one letter must be submitted by a person not employed by an HHS agency (e.g., CDC, National Institutes of Health, Food and Drug Administration).

Nominations may be submitted by the candidate or by the person/organization recommending the candidate.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-22866 Filed 10-2-24; 8:45 am]

BILLING CODE 4163-18-P